DEPARTMENT OF HEALTH SERVICES

National Committee on Vital and Health Statistics: Meeting

Pursuant to the Federal Advisory Committee Act, the Department of Health and Human Services announced the following advisory committee meeting.

Name: National Committee on Vital and Health Statistics (NCVHS), Workgroup on the National Health Information Infrastructure.

Time and Date: 8:30 a.m.-4:30 p.m., April 22, 2003.

Place: Sheraton Buckhead Hotel, 3405 Lenox Road, NE, Atlanta, GA 30326.

Status: Open.

Purpose: The Workgroup will hear testimony about issues related to the population health dimension of the national health information infrastructure, including public health surveillance, disease registries, and privacy issues.

Contact Person For More Information: Substantive program information as well as summaries of meetings and a roster of committee members may be obtained from Mary Jo Deering, Lead Staff Person for the NCVHS Workgroup on the National Health Information Infrastructure, Office of Public Health and Science, DHHS, Room 738G, Humphrey Building, 200 Independence Avenue SW., Washington, DC 20201, telephone (202) 260-2652, or Majorie S. Greenberg, Executive Secretary, NCVHS, NCHS, CDC, Room 1100, Presidential Building, 6525 Belcrest Road, Hyattsville, Maryland 20782, telephone (301) 436-7050. Information also is available on the NCVHS home page of the HHS Web site: http://www.ncvhs.hhs.gov/, where an agenda for the meeting will be posted when available.

Dated: April 9, 2003.
James Scanlon,
Acting Director, Office of Science and Data Policy, Office of the Assistant Secretary for Planning and Evaluation.

[FR Doc. 03-9365 Filed 4-16-03; 8:45 am]

BILLING CODE 4151-04-M